DEPARTMENT OF THE INTERIOR

Fish and Wildlife Service

Availability of a Habitat Conservation Plan and Receipt of an Application for an Incidental Take Permit for the Prairie City Crossing Project, Folsom, Sacramento County, CA

AGENCY: Fish and Wildlife Service, Interior.

ACTION: Notice of availability.

SUMMARY: Regency Realty has applied to the Fish and Wildlife Service (Service) for an incidental take permit pursuant to section 10(a)(1)(B) of the Endangered Species Act of 1973, as amended (Act). The Service proposes to issue a 2-year permit to Regency Realty that would authorize take of the threatened valley elderberry longhorn beetle (Desmocerus californicus dimorphus; beetle) incidental to otherwise lawful activities. Such take would occur as a result of development of a supermarket, parking lot, and service station on the Prairie City Crossing Project site in Folsom, Sacramento County, California.

The application includes a Habitat Conservation Plan (Plan). The Plan describes the proposed project and the measures that Regency Realty would undertake to minimize and mitigate take of the beetle, as required in section 10(a)(2)(B) of the Act. Development would result in the loss of 1 elderberry plant with 4 stems that provide habitat for the beetle. We request comments on the Plan.

We also request comments on our preliminary determination that the Plan qualifies as a “low-effect” Habitat Conservation Plan, eligible for a categorical exclusion under the National Environmental Policy Act. The basis for this determination is discussed in an Environmental Action Statement, which is also available for public review.

This notice is provided pursuant to section 10(a) of the Act and National Environmental Policy Act regulations (40 CFR 1506.6). The Plan and the Environmental Action Statement are available for review and comment by other agencies and the public. All comments received, including names and addresses, will become part of the public record and will be available for review pursuant to section 10(c) of the Act.

DATES: Written comments must be received no later than April 17, 2000.

ADDRESSES: Send written comments to Mr. Wayne White, Field Supervisor, Fish and Wildlife Service, 2800 Cottage Way, Suite W-2605, Sacramento, California 95825-1846. Comments may be sent by facsimile to 916-414-6610.

FOR FURTHER INFORMATION CONTACT: Ms. Vicki Campbell, Chief of Conservation Planning Division, at the above address or call (916) 414-6600.

SUPPLEMENTARY INFORMATION:

Document Availability

Please contact the above office if you would like copies of the application, Plan, and Environmental Action Statement. Documents also will be available for review by appointment, during normal business hours at the above address.

Background

Section 9 of the Act and Federal regulation prohibit the “take” of fish or wildlife species listed as endangered or threatened, respectively. Take of listed fish or wildlife is defined under the Act to mean harass, harm, pursue, hunt, shoot, wound, kill, trap, capture, collect, or to attempt to engage in any such conduct. However, the Service may, under limited circumstances, issue permits to authorize incidental take; i.e., take that is incidental to, and not the purpose of, the carrying out of an otherwise lawful activity. Regulations governing incidental take permits for threatened and endangered species are found in 50 CFR 17.32 and 17.22, respectively.

The proposed Prairie City Crossing Project is located at the northwest corner of Prairie City and Iron Point roads in the City of Folsom, Sacramento County, California, which corresponds to Township 9 North, Range 7 East of the “Folsom, California” topographic quadrangle (United States Geological Survey, Photorevised 1980). Regency Realty is requesting a 2-year incidental take permit to authorize take of the beetle on the project site.

The Prairie City Crossing Project consists of the proposed construction of a Safeway supermarket, parking lot, and service station on an 11-acre parcel. The entire project area has been disturbed by prior mining activities that occurred during the early 1900s. The existing habitat on the site consists of dredger tailings, annual grassland, and pockets of foothill pine/oak woodland within the tailings.

One elderberry shrub, containing three stems that are between 1 and 3 inches in diameter and one stem that is greater than 5 inches in diameter at ground level, occurs on the project site within the impact area as potential habitat for the federally-threatened beetle. A single adult beetle exit hole was found in this shrub. Construction of the proposed project would result in the removal of the elderberry shrub. The project site does not contain any riparian habitat. The project site does not contain any other rare, threatened, or endangered species or habitat. No critical habitat for any listed species occurs on the project site.

Under the HCP, mitigation for impacts to the beetle would conform to the Fish and Wildlife Service's 1999 Mitigation Guidelines. The single elderberry shrub affected by the proposed project would not be transplanted because it is located at the bottom of a cobble ravine, surrounded by dredger tailings, and access by heavy equipment is extremely difficult. Prior to undertaking transplantation, considerable grading would have to be completed in order to construct an access road that could be used by heavy equipment. A vermeer spade could not be used because of the rocky nature of the site. In addition, if this elderberry shrub were to be transplanted, its survival would be questionable because much of the rootball probably would be destroyed during the transplanting process. Therefore, Regency Realty proposes to purchase 5 beetle mitigation credits at the Wildlands Mitigation Bank, a Service-approved mitigation site. Purchase of these credits would result in the planting of 24 elderberry plants and 16 associated native tree species to mitigate for impacts to 4 stems.

The Proposed Action consists of the issuance of an incidental take permit and implementation of the Plan, which includes measures to minimize and mitigate impacts of the project on the beetle. One alternative to the taking of listed species under the Proposed Action is considered in the Plan. Under the No Action Alternative, no permit would be issued. However, the No Action Alternative is inconsistent with local development goals and would result in the undisturbed elderberry shrub being left on the site in an isolated patch of open space with little habitat value.

The Service has made a preliminary determination that the Plan qualifies as a “low-effect” plan as defined by its Habitat Conservation Planning Handbook (November 1996). Determination of low-effect Habitat Conservation Plans is based on the following three criteria: (1) Implementation of the Plan would result in minor or negligible effects on federally listed, proposed, and candidate species and their habitats; (2) implementation of the Plan would result in minor or negligible effects on other environmental values or resources; and (3) impacts of the Plan, considered together with the impacts of other past, present, and reasonably foreseeable similarly situated projects would not result, over time, in cumulative effects to environmental values or resources which would be considered significant. As more fully explained in the Service's Environmental Action Statement, the Prairie City Crossing Project Plan qualifies as a “low-effect” plan for the following reasons:

1. Approval of the Plan would result in minor or negligible effects on the beetle and its habitat. The Service does not anticipate significant direct or cumulative effects to the beetle resulting from development of the Prairie City Crossing Project area.

2. Approval of the Plan would not have adverse effects on unique geographic, historic or cultural sites, or involve unique or unknown environmental risks.

3. Approval of the Plan would not result in any cumulative or growth inducing impacts and, therefore, would not result in significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the Plan would not establish a precedent for future action or represent a decision in principle about future actions with potentially significant environmental effects.

The Service therefore has preliminarily determined that approval of the Plan qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

The Service provides this notice pursuant to section 10(c) of the Act. We will evaluate the permit application, the Plan, and comments submitted thereon to determine whether the application meets the requirements of section 10(a) of the Act. If the requirements are met, the Service will issue a permit to Regency Realty for the incidental take of the beetle from development of the Prairie City Crossing Project site. The final permit decision will be made no sooner than 30 days from the date of this notice.

Dated: March 8, 2000.
Elizabeth H. Stevens,
Deputy Manager, California/Nevada Operations Office, Sacramento, California.

[FR Doc. 00-6487 Filed 3-15-00; 8:45 am]

BILLING CODE 4310-55-P